NATIONAL SCIENCE FOUNDATION

Advisory Committee for Polar Programs; Notice of Meeting

In accordance with Federal Advisory Committee Act (Pub. L. 92-463, as amended), the National Science Foundation announces the following meeting:

Name: Advisory Committee for Polar Programs (1130).

Date/Time: May 17, 2007, 12 p.m. to 2 p.m.

Place: National Science Foundation, 4201 Wilson Boulevard, Room 770, Arlington VA.

Type of Meeting: Open (Teleconference).

Contact Person: Sue LaFratta, Office of Polar Programs (OPP). National Science Foundation, 4201 Wilson Boulevard, Arlington VA 22230 (703) 292-8030.

Minutes: May be obtained from the contact person list above.

Reason for Late Notice: Due to scheduling conflicting schedules of members and the necessity to proceed.

Purpose of Meeting: To advise NSF on the impact of its policies, programs, and activities of the polar research community, to provide advice to the Director of OPP on issues related to long-range planning.

Agenda: Division of Arctic and Antarctic Sciences Committee of Visitors reports.

Dated: May 2, 2007.
Susanne Bolton,
Committee Management Officer.

[FR Doc. E7-8697 Filed 5-4-07; 8:45 am]

BILLING CODE 7555-01-P